DEPARTMENT OF COMMERCE

International Trade Administration

University of Connecticut, et al., Notice of Consolidated Decision on Applications, for Duty-Free Entry of Electron Microscopes

This is a decision consolidated pursuant to Section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Docket Number: 06-007. Applicant: University of Connecticut, Storrs, CT 06269. Instrument: Electron Microscope, Model Technai G2 Spirit BioTWIN. Manufacturer: FEI Company, The Netherlands. Intended Use: See notice at 71 FR 18082, April 10, 2006. Order Date: April 15, 2005.

Docket Number: 06-009. Applicant: The New York Structural Biology Laboratory, New York, NY 10027. Instrument: Electron Microscope, Model JEM-2100F. Manufacturer: JEOL Ltd., Japan.Intended Use: See notice at 71 FR 18082, April 10, 2006. Order Date: May 26, 2005.

Docket Number: 06-010. Applicant: Emory University Hospital, Atlanta, GA 30322. Instrument: Electron Microscope, Model Morgagni 268. Manufacturer: FEI Company, The Netherlands. Intended Use: See notice at 71 FR 18082, April 10, 2006. Order Date: September 1 2005.

Docket Number: 06-011 Applicant: President and Fellows of Harvard College, Cambridge, MA 02138. Instrument: Electron Microscope, Model JEM-2100. Manufacturer: JEOL, Ltd., Japan. Intended Use: See notice at 71 FR 18082, April 10, 2006. Order Date: June 17, 2005.

Docket Number: 06-013. Applicant: Ames Laboratory - U.S. Department of Energy, Ames, Iowa 50011-3020. Instrument: Electron Microscope, Model Technai G2 F20 X-TWIN. Manufacturer: FEI Company, The Netherlands. Intended Use: See notice at 71 FR 18082, April 10, 2006. Order Date: September 7, 2005.

Comments: None received. Decision: Approved. No instrument of equivalent scientific value to the foreign instrument, for such purposes as these instruments are intended to be used, was being manufactured in the United States at the time the instruments were ordered. Reasons: Each foreign instrument is a conventional transmission electron microscope (CTEM) and is intended for research or scientific educational uses requiring a CTEM. We know of no CTEM, or any other instrument suited to these purposes, which was being manufactured in the United States either at the time of order of each instrument OR at the time of receipt of application by U.S. Customs and Border Protection.

Gerald A. Zerdy,
Program Manager, Statutory Import Programs Staff.

[FR Doc. E6-6675 Filed 5-2-06; 8:45 am]

BILLING CODE 3510-DS-S